DEPARTMENT OF HEALTH AND HUMAN SERVICES

Health Care Financing Administration

42 CFR Parts 410 and 414

[HCFA-1120-CN]

RIN 0938-AK11

Medicare Program; Revisions to Payment Policies Under the Physician Fee Schedule for Calendar Year 2001

AGENCY: Health Care Financing Administration (HCFA), HHS.

ACTION: Correction of final rule with comment period.

SUMMARY: This document corrects technical errors that appeared in the final rule with comment period published in the Federal Register on November 1, 2000, entitled “Revisions to Payment Policies Under the Physician Fee Schedule for Calendar Year 2001.”

EFFECTIVE DATE: January 1, 2001.

FOR FURTHER INFORMATION CONTACT: Diane Milstead, (410) 786-3355.

SUPPLEMENTARY INFORMATION:

Background

In FR Doc. 00-27833 of November 1, 2000, (65 FR 65376), there were a number of technical errors that are identified and corrected in the Correction of Errors section below. Additionally there are various revisions to Addenda B and C. The provisions in this correction notice are effective as if they had been included in the document published November 1, 2000, that is, January 1, 2001.

Discussion of Addenda B and C

1. While we had proposed revisions to the work relative work units (RVUs) for observation care codes (CPT 99234 through 99236) on page 44196 of the July 17, 2000 proposed rule, we indicated in the November 1, 2000 final rule we were not proceeding with the revisions to the work RVUS. Unfortunately, the work RVUs published in the November 1, 2000 rule continued to reflect the proposed reductions. The following entries on page 65555 are corrected: CPT code 99234, CPT code 99235, and CPT code 99236. These corrections are reflected in correction number 9 to follow. In addition, since no change was made to the RVUs for these codes, they should not be included on page 65585 of Addendum C. Therefore, they have been deleted from Addendum C.

2. On page 65568 of Addendum B, the value assigned to HCPCS code G0105 under the column labeled “Year 2001 Transitional Non-facility Total” is incorrect. The corrected value is reflected in correction number 10 to follow.

3. On page 65569 and 65570 of Addendum B, the short descriptor to HCFA Common Procedure Coding System (HCPCS) codes G0179 and G0190 are listed incorrectly. The corrected descriptor is reflected in correction number 11 to follow.

4. On page 65569 of Addendum B and page 65585 of Addendum C, the short descriptor for HCPCS code G0184 is listed incorrectly. The corrected descriptor is reflected in correction number 12 to follow.

5. On page 65246 of the November 1, 2000, we stated that HCPCS codes G0195 and G0196 will be assigned RVUs and inputs for practice expense. However, Addenda B and C incorrectly indicate that these codes are carrier priced. Entries on the following pages are corrected: pages 65570 and 65585 for HCPCS codes G0195 and G0196. These corrections are reflected in corrections number 13 to follow.

6. In Addendum B, we assigned incorrect status indicators for the following CPT codes: page 65517 for CPT codes 76934, 76934-26, 76934-TC, 76938, 76938-26, 76938-TC; page 65518 for CPT codes 76960, 76960-26, 76960-TC; page 65536 for CPT codes 87145 and 87208; page 65544 for CPT code 92525, page 65545 for CPT codes 92597 and 92598; page 65556 for CPT codes 99375 and 99378; page 65556 for HCPCS codes A0030, A0040, A0050, A0225, A0300, A0302, A0304, A0306, A0308, A0310, A0320, A0322, A0324, A0326, A0328, A0330, A0340, A0342, A0344, A0346, A0348, A0350, A0360, A0362, A0364; page 65557 for HCPCS codes A0366, A0368, A0370, A0380 and A0390; and page 65577 for HCPCS code Q0186. These corrections are reflected in correction number 14 to follow.

7. In Addendum B, page 65548, we assigned incorrect status indicators and RVUs to CPT codes 93662-26 and 93662-TC. Corrections are made in correction number 15 to follow.

8. In Addendum B. page 65491, we assigned incorrect work and practice expense RVUs to CPT codes 59150 and 59151. We have corrected these RVUs in correction number 16 to follow.

9. In Addendum B, page 65514, we assigned incorrect malpractice RVUs to CPT code 76012. A correction is reflected in correction number 17 to follow.

10. In Addendum B the work RVUs for the following codes were incorrect due to a technical error in the payment calculations: page 65503 for CPT code 70540; page 65504 for CPT codes 70540-26, 70542, 70542-26, 70543, and 70543-26; on page 65505 for CPT codes 71550, 71550-26, 71551, 71551-26, 71552, and 71552-26; on page 65506 for CPT 72195, 72195-26, 72196, 72196-26, 72197, and 72197-26; on page 65508 for CPT code 73218, 73218-26, 73219, 73219-26, 73220, 73220-26, 73221, 73221-26, 73222, 73222-26, 73223, and 73223-26; on page 65509 for CPT codes 74181, 74181-26, 74182, 74182-26, and 74183; and on page 65510 for CPT code 74183-26. Corrections are made in correction number 18 to follow.

Correction of Errors

In FR Doc. 00-27833 of November 1, 2000, (65 FR 65376), make the following corrections:

1. On page 65383, column three, under “Comments on Response Rate”, in the third full paragraph labeled “Response”, in the third from the last line, delete the words “divided by the mean,”.

2. On page 65385, column two, under “Result of Evaluation of Comments”, second bullet, first paragraph, line eleven, delete the words “divided by the mean,”.

3. On page 65425, column two, under Medical Nutrition Therapy (CPT codes 97802 through 97804) in the first paragraph, fourth sentence, replace “Diabetic” with “Dietetic”.

4. On page 65427, column two, section V. “Physician Fee Schedule Update and Conversion Factor for Calendar Year 2001”, in the second sentence of the first paragraph, the anesthesia conversion factor should be corrected to read 17.83.

5. On page 65432, column one, first paragraph, the parenthetical contained in the note should read “(that is, 1.019 × 1.009 × 1.027 × 1.000 = 1.056).”

6. On page 65437, in the table labeled “Impact of This Final Rule Only on Payment for Selected Codes,” for CPT code 99236, replace the values under “Old facility” and “New facility” columns with “225.72” and the value under the percent change column with a “0”.

Addendum B [Corrected]

7. On page 65440 in column three, add the following after the entry for status code “G”:

“H” = Deleted modifier (code used to have modifier of TC and PC)

“I” = Code not valid for Medicare purposes. Medicare does not recognize codes assigned this status. Medicare uses another code for the reporting of, and payment for, these services. This indicator is treated in the same manner as status indicator “G”. Its use allows for more efficient processing of Medicare claims.

8. On page 65441, in the second and third columns of the key describing Addenda B and C, the year 2000 was incorrectly referenced. The references to “2000” in items 5, 7, 9, 10, 12, and 14 should be corrected to “2001.”

9. In the Table of Addendum B the following CPT codes are corrected to read as follows:

CPT¹ HCPCS² | MOD | Status | Description | Physician work RVUs³ | Fully implemented non-facility PE RVUs | Year 2001 transitional non-facility PE RVUs | Fully implemented facility PE RVUs | Year 2001 transitional facility PE RVUs | Mal-practice RVUs | Fully Implemented non-facility total | Year 2001 transitional non-facility total | Fully implemented facility total | Year 2001 transitional facility total | Global
99234 |  | A | Observ/hosp same date | 2.56 | N/A | N/A | 0.92 | 0.88 | 0.11 | N/A | N/A | 3.59 | 3.55 | XXX
99235 |  | A | Observ/hosp same date | 3.42 | N/A | N/A | 1.20 | 1.19 | 0.13 | N/A | N/A | 4.75 | 4.74 | XXX
99236 |  | A | Observ/hosp same date | 4.27 | N/A | N/A | 1.46 | 1.41 | 0.17 | N/A | N/A | 5.90 | 5.85 | XXX
¹ CPT codes and descriptions only are copyright 2000 American Medical Association. All rights reserved. Applicable FARS/DFARS apply.
² Copyright 1994 American Dental Association. All rights reserved.
³ +Indicates RVUs are not used for Medicare payment.

10. In the Table of Addendum B the following HCPCS code is corrected to read as follows:

CPT¹ HCPCS² | MOD | Status | Description | Physician work RVUs³ | Fully implemented non-facility PE RVUs | Year 2001 transitional non-facility PE RVUs | Fully implemented facility PE RVUs | Year 2001 transitional facility PE RVUs | Mal-practice RVUs | Fully implemented non-facility total | Year 2001 transitional non-facility total | Fully implemented facility total | Year 2001 transitional facility total | Global
G0105 |  | A | Colorectal scrn; hi risk ind | 3.68 | 6.60 | 6.07 | 1.70 | 2.38 | 0.20 | 10.48 | 9.95 | 5.58 | 6.26 | 000
¹ CPT codes and descriptions only are copyright 2000 American Medical Association. All rights reserved. Applicable FARS/DFARS apply.
² Copyright 1994 American Dental Association. All rights reserved.
³ +Indicates RVUs are not used for Medicare payment.

11. In the Table of Addendum B the following HCPCS code descriptors are corrected to read as follows:

CPT¹ HCPCS² | MOD | Status | Description | Physician work RVUs³ | Fully implemented non-facility PE RVUs | Year 2001 transitional non-facility PE RVUs | Fully implemented facility PE RVUs | Year 2001 transitional facility PE RVUs | Mal-practice RVUs | Fully implemented non-facility total | Year 2001 transitional non-facility total | Fully implemented facility total | Year 2001 transitional facility total | Global
G0179 |  | A | MD recert HHA patient | 0.45 | 1.09 | 1.09 | 0.18 | 0.18 | 0.06 | 1.60 | 1.60 | 0.69 | 0.69 | XXX
G0190 |  | X | Immunization admin, ea add | 0.00 | 0.00 | 0.00 | 0.00 | 0.00 | 0.00 | 0.00 | 0.00 | 0.00 | 0.00 | XXX
¹ CPT codes and descriptions only are copyright 2000 American Medical Association. All rights reserved. Applicable FARS/DFARS apply.
² Copyright 1994 American Dental Association. All rights reserved.
³ +Indicates RVUs are not used for Medicare payment.

12. In the Table of Addenda's B and C the following HCPCS code is corrected to read as follows:

CPT ¹ HCPCS ² | MOD | Status | Description | Physician work RVUs ³ | Fully implemented non-facility PE RVUs | Year 2001 transitional non-facility PE RVUs | Fully implemented facility PE RVUs | Year 2001 transitional facility PE RVUs | Malpractice RVUs | Fully implemented non-facility total | Year 2001 transitional non-facility total | Fully implemented facility total | Year 2001 transitional facility total | Global
G0184 |  | A | Ocular photo. Tx, 2nd eye | 0.47 | 0.23 | 0.23 | 0.23 | 0.23 | 0.50 | 1.20 | 1.20 | 1.20 | 1.20 | ZZZ
¹ CPT codes and descriptions only are copyright 2000 American Medical Association. All rights reserved. Applicable FARS/DFARS apply.
² Copyright 1994 American Dental Association. All rights reserved.
³ + Indicates RVUs are not used for Medicare payments.

13. In the Table of Addenda's B and C the following HCPCS codes are corrected to read as follows:

CPT ¹ HCPCS ² | MOD | Status | Description | Physician work RVUs ³ | Fully implemented non-facility PE RVUs | Year 2001 transitional non-facility PE RVUs | Fully implemented facility PE RVUs | Year 2001 transitional facility PE RVUs | Malpractice RVUs | Fully implemented non-facility total | Year 2001 transitional non-facility total | Fully implemented facility total | Year 2001 transitional facility total | Global
G0195 |  | A | Clinical eval swallowing func | 1.50 | 1.81 | 1.64 | 0.77 | 0.86 | 0.07 | 3.38 | 3.21 | 2.34 | 2.43 | XXX
G0196 |  | A | Eval of swallow w/radio opa | 1.50 | 1.81 | 1.64 | 0.77 | 0.86 | 0.07 | 3.38 | 3.21 | 2.34 | 2.43 | XXX
¹ CPT codes and descriptions only are copyright 2000 American Medical Association. All rights reserved. Applicable FARS/DFARS apply.
² Copyright 1994 American Dental Association. All rights reserved.
³ + Indicates RVUs are not used for Medicare payments.

14. In the Table of Addendum B the following CPT codes are corrected to read as follows:

CPT ¹ HCPCS ² | MOD | Status | Description | Physician work RVUs ³ | Fully implemented non-facility PE RVUs | Year 2001 transitional non-facility PE RVUs | Fully implemented facility PE RVUs | Year 2001 transitional facility PE RVUs | Malpractice RVUs | Fully implemented non-facility total | Year 2001 transitional non-facility total | Fully implemented facility total | Year 2001 transitional facility total | Global
76934 |  | D | Echo guide for chest tap | 0.00 | 0.00 | 0.00 | 0.00 | 0.00 | 0.00 | 0.00 | 0.00 | 0.00 | 0.00 | XXX
76934 | 26 | D | Echo guide for chest tap | 0.00 | 0.00 | 0.00 | 0.00 | 0.00 | 0.00 | 0.00 | 0.00 | 0.00 | 0.00 | XXX
A0362 |  | I | Basic emer sep mile & supply | 0.00 | 0.00 | 0.00 | 0.00 | 0.00 | 0.00 | 0.00 | 0.00 | 0.00 | 0.00 | XXX
A0364 |  | I | Adv non-er no serv sep mi&su | 0.00 | 0.00 | 0.00 | 0.00 | 0.00 | 0.00 | 0.00 | 0.00 | 0.00 | 0.00 | XXX
A0366 |  | I | Adv non-er serv sep mil&supp | 0.00 | 0.00 | 0.00 | 0.00 | 0.00 | 0.00 | 0.00 | 0.00 | 0.00 | 0.00 | XXX
A0368 |  | I | Adv er no serv sep mile&supp | 0.00 | 0.00 | 0.00 | 0.00 | 0.00 | 0.00 | 0.00 | 0.00 | 0.00 | 0.00 | XXX
A0370 |  | I | Adv er spec serv sep mi&supp | 0.00 | 0.00 | 0.00 | 0.00 | 0.00 | 0.00 | 0.00 | 0.00 | 0.00 | 0.00 | XXX
A0380 |  | X | Basic life support mileage | 0.00 | 0.00 | 0.00 | 0.00 | 0.00 | 0.00 | 0.00 | 0.00 | 0.00 | 0.00 | XXX
A0390 |  | X | Advanced life support mileag | 0.00 | 0.00 | 0.00 | 0.00 | 0.00 | 0.00 | 0.00 | 0.00 | 0.00 | 0.00 | XXX
Q0186 |  | I | Paramedic intercept, rural | 0.00 | 0.00 | 0.00 | 0.00 | 0.00 | 0.00 | 0.00 | 0.00 | 0.00 | 0.00 | XXX
¹ CPT codes and descriptions only are copyright 2000 American Medical Association. All rights reserved. Applicable FARS/DFARS apply.
² Copyright 1994 American Dental Association. All rights reserved.
³ + Indicates RVUs are not used for Medicare payments.

15. In the Table of Addendum B the following CPT codes are corrected to read as follows:

CPT ¹ HCPCS ² | MOD | Status | Description | Physician work RVUs ³ | Fully implemented non-facility PE RVUs | Year 2001 transitional non-facility PE RVUs | Fully implemented facility PE RVUs | Year 2001 transitional facility PE RVUs | Malpractice RVUs | Fully implemented non-facility total | Year 2001 transitional non-facility total | Fully implemented facility total | Year 2001 transitional facility total | Global
93662 | 26 | H | Intracardiac ecg (ice) | 0.00 | 0.00 | 0.00 | 0.00 | 0.00 | 0.00 | 0.00 | 0.00 | 0.00 | 0.00 | XXX
93662 | TC | H | Intracardiac ecg (ice) | 0.00 | 0.00 | 0.00 | 0.00 | 0.00 | 0.00 | 0.00 | 0.00 | 0.00 | 0.00 | XXX
¹ CPT codes and descriptions only are copyright 2000 American Medical Association. All rights reserved. Applicable FARS/DFARS apply.
² Copyright 1994 American Dental Association. All rights reserved.
³ + Indicates RVUs are not used for Medicare payments.

16. In the Table of Addendum B the following CPT codes are corrected to read as follows:

CPT ¹ HCPCS ² | MOD | Status | Description | Physician work RVUs ³ | Fully implemented non-facility PE RVUs | Year 2001 transitional non-facility PE RVUs | Fully implemented facility PE RVUs | Year 2001 transitional facility PE RVUs | Malpractice RVUs | Fully implemented non-facility total | Year 2001 transitional non-facility total | Fully implemented facility total | Year 2001 transitional facility total | Global
59150 |  | A | Treat ectopic pregnancy | 11.20 | 6.08 | 5.79 | 6.08 | 5.79 | 1.23 | 18.51 | 18.22 | 18.51 | 18.22 | 090
59151 |  | A | Treat ectopic pregnancy | 11.10 | 5.59 | 6.53 | 5.59 | 6.53 | 1.41 | 18.10 | 19.04 | 18.10 | 19.04 | 090
¹ CPT codes and descriptions only are copyright 2000 American Medical Association. All rights reserved. Applicable FARS/DFARS apply.
² Copyright 1994 American Dental Association. All rights reserved.
³ + Indicates RVUs are not used for Medicare payments.

17. In the Table of Addendum B the following HCPCS code is corrected to read as follows:

CPT ¹ HCPCS ² | MOD | Status | Description | Physician work RVUs ³ | Fully implemented non-facility PE RVUs | Year 2001 transitional non-facility PE RVUs | Fully implemented facility PE RVUs | Year 2001 transitional facility PE RVUs | Malpractice RVUs | Fully implemented non-facility total | Year 2001 transitional non-facility total | Fully implemented facility total | Year 2001 transitional facility total | Global
70612 |  | A | Percut vertebroplasty fluor | 1.31 | 0.49 | 0.49 | 0.49 | 0.49 | 0.23 | 2.03 | 2.03 | 2.03 | 2.03 | XXX
¹ CPT codes and descriptions only are copyright 2000 American Medical Association. All rights reserved. Applicable FARS/DFARS apply.
² Copyright 1994 American Dental Association. All rights reserved.
³+Indicates RVUs are not used for Medicare payments.

18. In the Table of Addendum B the following CPT codes are corrected to read as follows:

CPT ¹ HCPCS ² | MOD | Status | Description | Physician work RVUs ³ | Fully implemented non-facility PE RVUs | Year 2001 transitional non-facility PE RVUs | Fully implemented facility PE RVUs | Year 2001 transitional facility PE RVUs | Malpractice RVUs | Fully implemented non-facility total | Year 2001 transitional non-facility total | Fully implemented facility total | Year 2001 transitional facility total | Global
70540 |  | A | MRI orbit/face/neck w/o dye | 1.10 | 11.52 | 11.72 | N/A | N/A | 0.36 | 12.98 | 13.18 | N/A | N/A | XXX
70540 | 26 | A | MRI orbit/face/neck w/o dye | 1.10 | 0.39 | 0.47 | 0.39 | 0.47 | 0.04 | 1.53 | 1.61 | 1.53 | 1.61 | XXX
70542 |  | A | MRI orbit/face/neck w/ dye | 1.33 | 13.81 | 13.81 | N/A | N/A | 0.43 | 15.57 | 15.57 | N/A | N/A | XXX
70542 | 26 | A | MRI orbit/face/neck w/ dye | 1.33 | 0.47 | 0.47 | 0.47 | 0.47 | 0.04 | 1.84 | 1.84 | 1.84 | 1.84 | XXX
70543 |  | A | MRI orbit/fac/nck w/o&w/ dye | 1.76 | 25.34 | 25.34 | N/A | N/A | 0.78 | 27.88 | 27.88 | N/A | N/A | XXX
70543 | 26 | A | MRI orbit/fac/nck w/o&w/ dye | 1.76 | 0.63 | 0.63 | 0.63 | 0.63 | 0.08 | 2.47 | 2.47 | 2.47 | 2.47 | XXX
71550 |  | A | MRI chest w/o dye | 1.22 | 11.56 | 11.77 | N/A | N/A | 0.41 | 13.19 | 13.40 | N/A | N/A | XXX
71550 | 26 | A | MRI chest w/o dye | 1.22 | 0.43 | 0.52 | 0.43 | 0.52 | 0.04 | 1.69 | 1.78 | 1.69 | 1.78 | XXX
71551 |  | A | MRI chest w/ dye | 1.44 | 13.85 | 13.85 | N/A | N/A | 0.48 | 15.77 | 15.77 | N/A | N/A | XXX
71551 | 26 | A | MRI chest w/ dye | 1.44 | 0.51 | 0.51 | 0.51 | 0.51 | 0.05 | 2.00 | 2.00 | 2.00 | 2.00 | XXX
71552 |  | A | MRI chest w/o & w/ dye | 1.89 | 25.38 | 25.38 | N/A | N/A | 0.63 | 27.90 | 27.90 | N/A | N/A | XXX
71552 | 26 | A | MRI chest w/o & w/ dye | 1.89 | 0.67 | 0.67 | 0.67 | 0.67 | 0.07 | 2.63 | 2.63 | 2.63 | 2.63 | XXX
72195 |  | A | MRI pelvis w/o dye | 1.22 | 11.56 | 11.56 | N/A | N/A | 0.41 | 13.19 | 13.19 | N/A | N/A | XXX
72195 | 26 | A | MRI pelvis w/o dye | 1.22 | 0.43 | 0.43 | 0.43 | 0.43 | 0.04 | 1.69 | 1.69 | 1.69 | 1.69 | XXX
72196 |  | A | MRI pelvis w/ dye | 1.44 | 13.85 | 13.48 | N/A | N/A | 0.48 | 15.77 | 15.40 | N/A | N/A | XXX
72196 | 26 | A | MRI pelvis w/ dye | 1.44 | 0.51 | 0.58 | 0.51 | 0.58 | 0.05 | 2.00 | 2.07 | 2.00 | 2.07 | XXX
72197 |  | A | MRI pelvis w/o & w/ dye | 1.89 | 25.38 | 25.38 | N/A | N/A | 0.85 | 28.12 | 28.12 | N/A | N/A | XXX
72197 | 26 | A | MRI pelvis w/o & w/ dye | 1.89 | 0.67 | 0.67 | 0.67 | 0.67 | 0.09 | 2.65 | .265 | 2.65 | 2.65 | XXX
73218 |  | A | MRI upper extremity w/o dye | 1.10 | 11.52 | 11.52 | N/A | N/A | 0.36 | 12.98 | 12.98 | N/A | N/A | XXX
73218 | 26 | A | MRI upper extremity w/o dye | 1.10 | 0.39 | 0.39 | 0.39 | 0.39 | 0.04 | 1.53 | 1.53 | 1.53 | 1.53 | XXX
73219 |  | A | MRI upper extremity w/ dye | 1.33 | 13.82 | 13.82 | N/A | N/A | 0.43 | 15.58 | 15.58 | N/A | N/A | XXX
73219 | 26 | A | MRI upper extremity w/ dye | 1.33 | 0.48 | 0.48 | 0.48 | 0.48 | 0.04 | 1.85 | 1.85 | 1.85 | 1.85 | XXX
73220 |  | A | MRI upper extremity w/o & w/ dye | 1.76 | 25.34 | 22.08 | N/A | N/A | 0.78 | 27.88 | 24.62 | N/A | N/A | XXX
73220 | 26 | A | MRI upper extremity w/o & w/ dye | 1.76 | 0.63 | 0.65 | 0.63 | 0.65 | 0.08 | 2.47 | 2.49 | 2.47 | 2.49 | XXX
73221 |  | A | MRI joint upr extrem w/o dye | 1.10 | 11.52 | 11.66 | N/A | N/A | 0.36 | 12.98 | 13.12 | N/A | N/A | XXX
73221 | 26 | A | MRI joint upr extrem w/o dye | 1.10 | 0.39 | 0.41 | 0.39 | 0.41 | 0.04 | 1.53 | 1.55 | 1.53 | 1.55 | XXX
73222 |  | A | MRI joint upr extrem w/ dye | 1.33 | 13.81 | 13.81 | N/A | N/A | 0.43 | 15.57 | 15.57 | N/A | N/A | XXX
73222 | 26 | A | MRI joint upr extrem w/ dye | 1.33 | 0.47 | 0.47 | 0.47 | 0.47 | 0.04 | 1.84 | 1.84 | 1.84 | 1.84 | XXX
73223 |  | A | MRI joint upr extr w/o & w/ dye | 1.76 | 25.34 | 25.34 | N/A | N/A | 0.78 | 27.88 | 27.88 | N/A | N/A | XXX
73223 | 26 | A | MRI joint upr extr w/o & w/ dye | 1.76 | 0.63 | 0.63 | 0.63 | 0.63 | 0.08 | 2.47 | 2.47 | 2.47 | 2.47 | XXX
73718 |  | A | MRI lower extremity w/o dye | 1.10 | 11.52 | 11.52 | N/A | N/A | 0.36 | 12.98 | 12.98 | N/A | N/A | XXX
73718 | 26 | A | MRI lower extremity w/o dye | 1.10 | 0.39 | 0.39 | 0.39 | 0.39 | 0.04 | 1.53 | 1.53 | 1.53 | 1.53 | XXX
73719 |  | A | MRI lower extremity w/ dye | 1.33 | 13.81 | 13.81 | N/A | N/A | 0.43 | 15.57 | 15.57 | N/A | N/A | XXX
73719 | 26 | A | MRI lower extremity w/ dye | 1.33 | 0.47 | 0.47 | 0.47 | 0.47 | 0.04 | 1.84 | 1.84 | 1.84 | 1.84 | XXX
73720 |  | A | MRI lower extremity w/o & w/ dye | 1.76 | 25.33 | 22.08 | N/A | N/A | 0.78 | 27.87 | 24.62 | N/A | N/A | XXX
73720 | 26 | A | MRI lower extremity w/o & w/ dye | 1.76 | 0.62 | 0.65 | 0.62 | 0.65 | 0.08 | 2.46 | 2.49 | 2.46 | 2.49 | XXX
73721 |  | A | MRI joint of lwr extre w/o dye | 1.10 | 11.52 | 11.66 | N/A | N/A | 0.36 | 12.98 | 13.12 | N/A | N/A | XXX
73721 | 26 | A | MRI joint of lwr extre w/o dye | 1.10 | 0.39 | 0.41 | 0.39 | 0.41 | 0.04 | 1.53 | 1.55 | 1.53 | 1.55 | XXX
73722 |  | A | MRI joint of lwr extr w/ dye | 1.33 | 13.82 | 13.82 | N/A | N/A | 0.43 | 15.58 | 15.58 | N/A | N/A | XXX
73722 | 26 | A | MRI joint of lwr extr w/ dye | 1.33 | 0.48 | 0.48 | 0.48 | 0.48 | 0.04 | 1.85 | 1.85 | 1.85 | 1.85 | XXX
73723 |  | A | MRI joint of lwr extr w/o & w/ dye | 1.76 | 25.34 | 25.34 | N/A | N/A | 0.78 | 27.88 | 27.88 | N/A | N/A | XXX
73723 | 26 | A | MRI joint of lwr extr w/o & w/ dye | 1.76 | 0.63 | 0.63 | 0.63 | 0.63 | 0.08 | 2.47 | 2.47 | 2.47 | 2.47 | XXX
74181 |  | A | MRI abdomen w/o dye | 1.22 | 11.56 | 11.77 | N/A | N/A | 0.41 | 13.19 | 13.40 | N/A | N/A | XXX
74181 | 26 | A | MRI abdomen w/o dye | 1.22 | 0.43 | 0.52 | 0.43 | 0.52 | 0.04 | 1.69 | 1.78 | 1.69 | 1.78 | XXX
74182 |  | A | MRI abdomen w/ dye | 1.44 | 13.85 | 13.85 | N/A | N/A | 0.48 | 15.77 | 15.77 | N/A | N/A | XXX
74182 | 26 | A | MRI abdomen w/ dye | 1.44 | 0.51 | 0.51 | 0.51 | 0.51 | 0.05 | 2.00 | 2.00 | 2.00 | 2.00 | XXX
74183 |  | A | MRI abdomen w/o & w/ dye | 1.89 | 25.38 | 25.38 | N/A | N/A | 0.85 | 28.12 | 28.12 | N/A | N/A | XXX
74183 | 26 | A | MRI abdomen w/o & w/ dye | 1.89 | 0.67 | 0.67 | 0.67 | 0.67 | 0.09 | 2,65 | 2.65 | .265 | 2.65 | XXX
76934 | TC | D | Echo guide for chest tap | 0.00 | 0.00 | 0.00 | 0.00 | 0.00 | 0.00 | 0.00 | 0.00 | 0.00 | 0.00 | XXX
76938 |  | D | Echo exam for drainage | 0.00 | 0.00 | 0.00 | 0.00 | 0.00 | 0.00 | 0.00 | 0.00 | 0.00 | 0.00 | XXX
76938 | 26 | D | Echo exam for drainage | 0.00 | 0.00 | 0.00 | 0.00 | 0.00 | 0.00 | 0.00 | 0.00 | 0.00 | 0.00 | XXX
76938 | TC | D | Echo exam for drainage | 0.00 | 0.00 | 0.00 | 0.00 | 0.00 | 0.00 | 0.00 | 0.00 | 0.00 | 0.00 | XXX
76960 |  | D | Echo guidance radiotherapy | 0.00 | 0.00 | 0.00 | 0.00 | 0.00 | 0.00 | 0.00 | 0.00 | 0.00 | 0.00 | XXX
76960 | 26 | D | Echo guidance radiotherapy | 0.00 | 0.00 | 0.00 | 0.00 | 0.00 | 0.00 | 0.00 | 0.00 | 0.00 | 0.00 | XXX
76960 | TC | D | Echo guidance radiotherapy | 0.00 | 0.00 | 0.00 | 0.00 | 0.00 | 0.00 | 0.00 | 0.00 | 0.00 | 0.00 | XXX
87145 |  | D | Culture typing, phage method | 0.00 | 0.00 | 0.00 | 0.00 | 0.00 | 0.00 | 0.00 | 0.00 | 0.00 | 0.00 | XXX
87208 |  | D | Smear, stain and interpret | 0.00 | 0.00 | 0.00 | 0.00 | 0.00 | 0.00 | 0.00 | 0.00 | 0.00 | 0.00 | XXX
92525 |  | G | Oral function evaluation | 1.50 | 1.55 | 1.44 | 0.60 | 0.59 | 0.07 | 3.12 | 3.01 | 2.17 | 2.16 | XXX
92597 |  | G | Oral speech device eval | 1.35 | 1.49 | 1.39 | 0.54 | 0.68 | 0.05 | 2.89 | 2.79 | 1.94 | 2.08 | XXX
92598 |  | G | Modify oral speech device | 0.99 | 0.76 | 0.75 | 0.40 | 0.48 | 0.04 | 1.79 | 1.78 | 1.43 | 1.51 | XXX
99375 |  | G | Home health care supervision | 1.73 | 1.40 | 1.40 | 0.63 | 0.63 | 0.06 | 3.19 | 3.19 | 2.42 | 2.42 | XXX
99378 |  | G | Hospice care supervision | 1.73 | 1.73 | 1.73 | 0.60 | 0.60 | 0.06 | 3.52 | 3.52 | 2.39 | 2.39 | XXX
A0030 |  | I | Air ambulance service | 0.00 | 0.00 | 0.00 | 0.00 | 0.00 | 0.00 | 0.00 | 0.00 | 0.00 | 0.00 | XXX
A0040 |  | I | Helicopter ambulance service | 0.00 | 0.00 | 0.00 | 0.00 | 0.00 | 0.00 | 0.00 | 0.00 | 0.00 | 0.00 | XXX
A0050 |  | I | Water amb service emergency | 0.00 | 0.00 | 0.00 | 0.00 | 0.00 | 0.00 | 0.00 | 0.00 | 0.00 | 0.00 | XXX
A0225 |  | D | Neonatal emergency transport | 0.00 | 0.00 | 0.00 | 0.00 | 0.00 | 0.00 | 0.00 | 0.00 | 0.00 | 0.00 | XXX
A0300 |  | I | Ambulance basic non-emer all | 0.00 | 0.00 | 0.00 | 0.00 | 0.00 | 0.00 | 0.00 | 0.00 | 0.00 | 0.00 | XXX
A0302 |  | I | Ambulance basic emergency all | 0.00 | 0.00 | 0.00 | 0.00 | 0.00 | 0.00 | 0.00 | 0.00 | 0.00 | 0.00 | XXX
A0304 |  | I | Amb adv non-er no serv all | 0.00 | 0.00 | 0.00 | 0.00 | 0.00 | 0.00 | 0.00 | 0.00 | 0.00 | 0.00 | XXX
A0306 |  | I | Amb adv non-er spec serv all | 0.00 | 0.00 | 0.00 | 0.00 | 0.00 | 0.00 | 0.00 | 0.00 | 0.00 | 0.00 | XXX
A0308 |  | I | Amb adv er no spec serv all | 0.00 | 0.00 | 0.00 | 0.00 | 0.00 | 0.00 | 0.00 | 0.00 | 0.00 | 0.00 | XXX
A0310 |  | I | Amb adv er spec serv all | 0.00 | 0.00 | 0.00 | 0.00 | 0.00 | 0.00 | 0.00 | 0.00 | 0.00 | 0.00 | XXX
A0320 |  | I | Amb basic non-er + supplies | 0.00 | 0.00 | 0.00 | 0.00 | 0.00 | 0.00 | 0.00 | 0.00 | 0.00 | 0.00 | XXX
A0322 |  | I | Amb basic emerg + supplies | 0.00 | 0.00 | 0.00 | 0.00 | 0.00 | 0.00 | 0.00 | 0.00 | 0.00 | 0.00 | XXX
A0324 |  | I | Adv non-er serv sep mileage | 0.00 | 0.00 | 0.00 | 0.00 | 0.00 | 0.00 | 0.00 | 0.00 | 0.00 | 0.00 | XXX
A0326 |  | I | Adv non-er no serv sep mile | 0.00 | 0.00 | 0.00 | 0.00 | 0.00 | 0.00 | 0.00 | 0.00 | 0.00 | 0.00 | XXX
A0328 |  | I | Adv er no serv sep mileage | 0.00 | 0.00 | 0.00 | 0.00 | 0.00 | 0.00 | 0.00 | 0.00 | 0.00 | 0.00 | XXX
A0330 |  | I | Adv er spec serv sep mile | 0.00 | 0.00 | 0.00 | 0.00 | 0.00 | 0.00 | 0.00 | 0.00 | 0.00 | 0.00 | XXX
A0340 |  | I | Amb basic non-er + mileage | 0.00 | 0.00 | 0.00 | 0.00 | 0.00 | 0.00 | 0.00 | 0.00 | 0.00 | 0.00 | XXX
A0342 |  | I | Ambul basic emer + mileage | 0.00 | 0.00 | 0.00 | 0.00 | 0.00 | 0.00 | 0.00 | 0.00 | 0.00 | 0.00 | XXX
A0344 |  | I | Amb adv non-er no serv + mile | 0.00 | 0.00 | 0.00 | 0.00 | 0.00 | 0.00 | 0.00 | 0.00 | 0.00 | 0.00 | XXX
A0346 |  | I | Amb adv non-er serv + mile | 0.00 | 0.00 | 0.00 | 0.00 | 0.00 | 0.00 | 0.00 | 0.00 | 0.00 | 0.00 | XXX
A0348 |  | I | Adv emer no spec serv + mile | 0.00 | 0.00 | 0.00 | 0.00 | 0.00 | 0.00 | 0.00 | 0.00 | 0.00 | 0.00 | XXX
A0350 |  | I | Adv emer spec serv + mileage | 0.00 | 0.00 | 0.00 | 0.00 | 0.00 | 0.00 | 0.00 | 0.00 | 0.00 | 0.00 | XXX
A0360 |  | I | Adv non-er sep mile & sup | 0.00 | 0.00 | 0.00 | 0.00 | 0.00 | 0.00 | 0.00 | 0.00 | 0.00 | 0.00 | XXX
¹ CPT codes and descriptions only are copyright 2000 American Medical Association. All Rights Reserved. Applicable FARS/DFARS Apply.
² Copyright 1994 American Dental Association. All rights reserved.
³ + Indicates RVUs are not used for Medicare payment.

Authority: Section 1848 of the Social Security Act (42 U.S.C. 1395w-4).

(Catalog of Federal Domestic Assistance Program No. 93.774, Medicare—Supplementary Medical Insurance Program)

Dated: March 19, 2001.
Brian P. Burns,
Deputy Assistant Secretary for Information Resource Management.

[FR Doc. 01-7445 Filed 3-26-01; 8:45 am]

BILLING CODE 4120-01-M